DEPARTMENT OF THE INTERIOR

Office of Natural Resources Revenue

[Docket No. ONRR-2011-0025; DS63644000 DRT000000.CH7000 223D1113RT, OMB Control Number 1012-0003]

Agency Information Collection Activities; Delegated and Cooperative Activities With States and Indian Tribes

AGENCY: Office of Natural Resources Revenue (“ONRR”), Interior.

ACTION: Notice of information collection; request for comment.

SUMMARY: In accordance with the Paperwork Reduction Act of 1995 (“PRA”), ONRR is proposing to renew an information collection. Currently, the information collection is authorized by the Office of Management and Budget (“OMB”) under OMB Control Number 1012-0003, which expires on December 31, 2021. Through this Information Collection Request (“ICR”), ONRR seeks renewed authority to collect information to review and approve a delegation proposal from a State that is seeking to perform royalty management functions and to prepare a cooperative agreement with a State or Indian Tribe seeking to perform royalty audits and investigations.

DATES: Interested persons are invited to submit comments on or before November 8, 2021.

ADDRESSES: All comment submissions must (1) reference “OMB Control Number 1012-0003” in the subject line; (2) be sent to ONRR before the close of the comment period listed under DATES; and (3) be sent through one of the following two methods:

• Electronically via the Federal eRulemaking Portal: Please visit https://www.regulations.gov. In the Search Box, enter the Docket ID Number for this ICR renewal (“ONRR-2011-0025”) to locate the document and click the “Comment Now!” button. Follow the prompts to submit your comment prior to the close of the comment period.

• Email Submissions: Please email your comments to ONRR_RegulationsMailbox@onrr.gov with the OMB Control Number (“OMB Control Number 1012-0003”) listed in the subject line of your email. Email submissions must be postmarked on or before the close of the comment period.

Docket: To access the docket to view ICR publications in the Federal Register, go to https://www.regulations.gov and search “ONRR-2011-0025”. The docket will display renewal notices recently published in the Federal Register, publications associated with prior renewals, and applicable public comments received for this ICR.

OMB ICR Data: OMB also maintains information on ICR renewals and approvals. You may access this information at https://www.reginfo.gov/public/do/PRASearch. Under the “OMB Control Number” heading enter “1012-0003” and click the “Search” button located at the bottom of the page. To view the ICR renewal or OMB approval status, click on the latest entry (based on the most recent date). On the “View ICR—OIRA Conclusion” page, check the box next to “All” to display all available ICR information provided by OMB.

FOR FURTHER INFORMATION CONTACT: To request additional information about this ICR, please contact Mr. Peter Hanley, State and Tribal Royalty Audit Committee, ONRR, by telephone at (303) 231-3721 or by email to Peter.Hanley@onrr.gov. Individuals who are hearing or speech impaired may call the Federal Relay Service at 1-800-877-8339 for TTY assistance.

SUPPLEMENTARY INFORMATION: Pursuant to the PRA, 44 U.S.C. 3501, et seq., and 5 CFR 1320.5, all information collections, as defined in 5 CFR 1320.3, require approval by OMB. ONRR may not conduct or sponsor, and you are not required to respond to, a collection of information unless it displays a currently valid OMB control number.

As part of ONRR's continuing effort to reduce paperwork and respondent burdens, ONRR is inviting the public and other Federal agencies to comment on new, proposed, revised, and continuing collections of information in accordance with the PRA and 5 CFR 1320.8(d)(1). This helps ONRR to assess the impact of its information collection requirements and minimize the public's reporting burden. It also helps the public understand ONRR's information collection requirements and provide the requested data in the desired format.

ONRR is especially interested in public comments addressing the following:

(1) Whether the collection of information is necessary for the proper performance of the functions of the agency, including whether the information will have practical utility;

(2) The accuracy of ONRR's estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

ONRR published a notice, with a 60-day public comment period soliciting comments on this collection of information, in the Federal Register on April 16, 2021 (86 FR 20194). ONRR received one comment in response to its 60-Day Notice for this ICR. The commenter generally agreed with ONRR's collection of information under this ICR.

Comments that you submit in response to this 30-Day Notice are a matter of public record. ONRR will include or summarize each comment in its request to OMB to approve this ICR. Before including your address, phone number, email address, or other personal identifying information in your comment, you should be aware that your entire comment—including your personal identifying information—may be made publicly available at any time. While you can ask ONRR in your comment to withhold your personal identifying information from public review, ONRR cannot guarantee that it will be able to do so.

Abstract: (a) General Information: For the benefit of all Americans, ONRR collects, accounts for, and verifies natural resource and energy revenues due to States, American Indians, and the U.S. Treasury. See U.S. Department of the Interior Departmental Manual, 112 DM 34.3 (Sept. 9, 2020). ONRR's various functions include working in partnership with Indian Tribes and States to conduct audits and reviews. Id. at 34.4(D). For this purpose, ONRR enters into cooperative agreements with States and Indian Tribes that seek to perform royalty audits pursuant to 30 U.S.C. 196 and 1732, and reviews and approves delegation proposals from States that seek to perform royalty management functions pursuant to 30 U.S.C. 196 and 1735.

(b) Information Collections: This ICR covers the paperwork requirements under 30 CFR parts 1227, 1228, and 1229. This collection of information is necessary in order for ONRR to approve States and Indian Tribes to conduct audits and related investigations of Federal and Indian oil, gas, coal, other solid minerals, and geothermal royalty revenues from Federal and Tribal leased lands. ONRR uses the information collected to: (1) review and approve a delegation proposal from a State seeking to perform royalty management functions, and (2) prepare a cooperative agreement with a State or Indian Tribe seeking to perform royalty audits. The requirements of 30 CFR parts 1227, 1228, and 1229 are:

(1) 30 CFR part 1227—Delegation to States. Part 1227 governs the delegation of certain Federal royalty management functions to a State under 30 U.S.C. 1735, for Federal oil and gas leases covering Federal lands within the State. This part also governs the delegation of audit and investigative functions to a State for Federal geothermal leases or solid mineral leases covering Federal lands within the State (30 U.S.C. 196), or leases covering lands offshore of the State subject to section 8(g) of the OCSLA (43 U.S.C. 1337(g)). To be considered for such delegation, a State must submit a written proposal to ONRR, which ONRR must approve. Following the delegation process, 30 CFR part 1227 outlines State responsibilities, compensation, performance reviews, and the process for terminating a delegation.

(2) 30 CFR part 1228—Cooperative Activities with States and Indian Tribes. FOGRMA (30 U.S.C. 1732) authorizes the Secretary of the Interior (“Secretary”) to enter into a cooperative agreement with a State or Indian Tribe to share oil and gas royalty management information, and to carry out inspection, audit, investigation, and enforcement activities on Federal and Indian lands. Federal regulations, at 30 CFR part 1228, implement this provision and set forth the requirements and procedures for entering into a cooperative agreement, the terms of such agreement, and subsequent responsibilities that must be carried out under the cooperative agreement. To enter into a cooperative agreement, a State or Indian Tribe must submit a written proposal to ONRR. The proposal must outline the activities that the State or Indian Tribe will undertake and must present evidence that the State or Indian Tribe can meet the standards of the Secretary to conduct these activities. The State or Indian Tribe also must submit an annual work plan and budget, as well as quarterly reimbursement vouchers.

(3) 30 CFR part 1229—Delegation to States. Part 1229 governs delegations to a State to conduct audits and related investigations for Federal lands within the State, and for Indian lands for which the State has received permission from the respective Indian Tribe or allottees to carry out audit activities delegated to the State under 30 U.S.C. 1735. 30 CFR 1229.4. Under Part 1229, the State must receive the Secretary's delegation of authority and submit annual audit work plans detailing its audits and related investigations, annual budgets, and quarterly reimbursement vouchers. The State also must maintain records.

Title of Collection: 30 CFR parts 1227, 1228, and 1229, Delegated and Cooperative Activities with States and Indian Tribes.

OMB Control Number: 1012-0003.

Form Numbers: None.

Type of Review: Renewal of a currently approved collection.

Respondents/Affected Public: States and Indian Tribes.

Total Estimated Number of Annual Respondents: 9 States and 6 Indian respondents.

Total Estimated Number of Annual Responses: 210.

Estimated Completion Time per Response: 75.50 hrs.

Total Estimated Number of Annual Burden Hours: 16,697 hours.

Respondent's Obligation: Required to obtain or retain benefit.

Frequency of Collection: Based on the functions performed, responses are monthly, quarterly, annually, on occasion, and varied.

Total Estimated Annual Non-Hour Burden Cost: ONRR identified no “non-hour cost” burden associated with this collection of information.

An agency may not conduct or sponsor, and a person is not required to respond to, a collection of information unless it displays a currently valid OMB control number.

The authority for this action is the PRA (44 U.S.C. 3501, et seq.).

Kimbra G. Davis,
Director, Office of Natural Resources Revenue.

[FR Doc. 2021-21894 Filed 10-7-21; 8:45 am]

BILLING CODE 4335-30-P